DEPARTMENT OF TRANSPORTATION

Federal Transit Administration

[FTA Docket No. FTA-2000-8493]

Notice of Request for the Reinstatement of an Expired Information Collection

AGENCY: Federal Transit Administration, DOT.

ACTION: Notice of request for comments.

SUMMARY: In accordance with the Paperwork Reduction Act of 1995, this notice announces the intention of the Federal Transit Administration (FTA) to request the Office of Management and Budget (OMB) to extend the following currently approved information collections:

(1) 49 U.S.C. Section 5310—Capital Assistance Program for Elderly Persons and Persons with Disabilities and Section 5311—Nonurbanized Area Formula Program

(2) Americans with Disabilities Act

(3) Pre-Award and Post Delivery Review Requirements

DATES: Comments must be submitted before February 12, 2001.

ADDRESSES: All written comments must refer to the docket number that appears at the top of this document and be submitted to the United States Department of Transportation, Central Dockets Office, PL-401, 400 Seventh Street, SW., Washington, DC 20590. All comments received will be available for examination at the above address from 10 a.m. to 5 p.m., e.t., Monday through Friday, except federal holidays. Those desiring notification of receipt of comments must include a self-addressed, stamped postcard/envelope.

FOR FURTHER INFORMATION CONTACT: 49 U.S.C. Section 5310—Capital Assistance Program for Elderly Persons and Persons with Disabilities and Section 5311—Nonurbanized Area Formula Program: Ms. Sue Masselink, Office of Program Management, (202) 366-2053.

Americans with Disabilities Act: Mr. Arthur Andrew Lopez, Director, Office of Civil Rights, (202) 366-4018.

Pre-Award, Post-Delivery Review Requirements: Spiro Colivas, Office of Program Management (202) 366-6009.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. Section 5310—Capital Assistance Program for Elderly Persons and Persons with Disabilities and Section 5311 Nonurbanized Area Formula Program (OMB Number: 2132-0500)

Background: The Capital Assistance Program for Elderly Persons and Persons with Disabilities provides financial assistance for the specialized transportation service needs of elderly persons and persons with disabilities. The program is administered by the States and may be used in all areas (urbanized, small urban, and rural). The Nonurbanized Area Formula Program provides financial assistance for the provision of public transportation services in nonurbanized areas. This program is also administered by the States. 49 U.S.C. sections 5310 and 5311 authorize FTA to review applications for federal financial assistance to determine eligibility and compliance with statutory and administrative requirements. Information collected during the application stage includes the project budget, which identifies funds requested for project implementation; a program of projects, which identifies subrecipients to be funded, the amount of funding that each will receive, and a description of the projects to be funded; the project implementation plan; a list of annual certifications and assurances; and public hearings notice, certification and transcript. The applications must contain sufficient information to enable FTA to make the findings required by law to enforce the program requirements. Information collected during the project management stage includes an annual financial report, an annual program status report, and pre-award and post-delivery audits. The annual financial report and program status report provide a basis for monitoring approved projects to ensure timely and appropriate expenditure of federal funds by grant recipients.

Respondents: State and local government and non-profit institutions.

Estimated Annual Burden on Respondents: 102.44 hours for each of the respondents.

Estimated Total Annual Burden: 11,370 hours.

Frequency: Annual.

Title: Americans with Disabilities Act (OMB Number: 2132-0555)

Background: On July 26, 1990, the President signed into law civil rights legislation entitled, “The Americans with Disabilities Act of 1990” (ADA) (Pub.L. 101-336). It contains sweeping changes for individuals with disabilities in every major area of American life. One key area of the legislation addresses transportation services provided by public and private entities. Some of the requirements under the ADA are: (1) No transportation entity shall discriminate against an individual with a disability in connection with the provision of transportation service; (2) All new vehicles purchased by public and private entities after August 25, 1990, must be readily accessible to and usable by persons with disabilities, including individuals who use wheelchairs; (3) Public entities that provide fixed route transit must provide complementary paratransit service for persons with disabilities, who are unable to use the fixed route system, that is comparable to the level of service provided to individuals without disabilities; and (4) Public entities operating light, rapid or commuter rail systems must designate key stations which were to be made accessible by July 26, 1993, unless the operator received a statutory time extension.

If FTA reasonably believes that an entity may not be in compliance, FTA may require periodic reports on a quarterly or annual basis. The information collected provides FTA with a basis for monitoring compliance. In addition, public entities, including recipients of FTA funds, are required to provide information during triennial reviews, complaint investigations, resolutions of complaints, and compliance reviews.

Respondents: State and local government, business or other for-profit institutions, non-profit institutions, and small business organizations.

Estimated Annual Burden on Respondents: 100 hours for 50 respondents and 50 hours for 700 recipients.

Estimated Total Annual Burden: 40,000 hours.

Frequency: Annual.

Title: Pre-Award and Post-Delivery Review Requirements (OMB Number: 2132-0544)

Background: Under the Federal Transit Laws, at 49 U.S.C. 5323(l), grantees must certify that pre-award and post-delivery reviews will be conducted when using FTA funds to purchase revenue service vehicles. FTA regulation 49 CFR Part 663 implements this law by specifying the actual certificates that must be submitted by each bidder to assure compliance with the Buy America, contract specification, and vehicle safety requirements for rolling stock. The information collected on the certification forms is necessary for FTA grantees to meet the requirements of 49 U.S.C. 5323(l).

Respondents: State and local government, business or other for-profit institutions, non-profit institutions, and small business organizations.

Estimated Annual Burden on Respondents: 3 hours for each of the 700 respondents.

Estimated Total Annual Burden: 1,729 hours.

Frequency: Annual.

Issued: December 7, 2000.
Dorrie Y. Aldrich,
Associate Administrator for Administration.

[FR Doc. 00-31709 Filed 12-12-00; 8:45 am]

BILLING CODE 4910-57-P